DEPARTMENT OF ENERGY

Federal Energy Regulatory Commission

Combined Notice of Filings #1

June 20, 2007.

Take notice that the Commission received the following electric corporate filings:

Docket Numbers: EC07-104-000.

Applicants: Granite Ridge I SPE LLC; Granite Ridge Energy, LLC; Merrill Lynch Credit Products, LLC; Electron Holdings, LLC; Cargill Financial Services International; King Street Capital, L.P.; KSCH Energy V Limited; TPG Credit Opportunities Fund, L.P.

Description: Granite Ridge I SPE LLC et al. submit an application for order authorizing the Disposition of Jurisdictional Facilities under section 203 of the FPA.

Filed Date: 6/14/2007.

Accession Number: 20070618-0132.

Comment Date: 5 p.m. Eastern Time on Thursday, July 5, 2007.

Docket Numbers: EC07-105-000.

Applicants: Phelps Dodge Corporation; Phelps Dodge Energy Services, LLC; Phelps Dodge Power Marketing, LLC.

Description: Phelps Dodge Corporation et al. submit a joint application for authorization to transfer ownership interest in exempt wholesale generators and on 6/15/07 submit an errata to this filing.

Filed Date: 6/14/2007; 6/15/2007.

Accession Number: 20070618-0130.

Comment Date: 5 p.m. Eastern Time on Thursday, July 5, 2007.

Docket Numbers: EC07-106-000.

Applicants: Williams Power Company, Inc.; Bear Energy LP.

Description: Williams Power Co, Inc and Bear Energy LP submits joint application for authorization of the disposition of jurisdictional facilities.

Filed Date: 6/14/2007.

Accession Number: 20070618-0134.

Comment Date: 5 p.m. Eastern Time on Thursday, July 5, 2007.

Docket Numbers: EC07-107-000.

Applicants: Reliant Energy Power Supply, LLC; Reliant Energy Solutions East, LLC; Merrill Lynch Commodities, Inc.

Description: Reliant Energy Power Supply, LLC, Reliant Energy Solutions East, LLC and Merrill Lynch Commodities, Inc submit an application for authorization for an indirect transfer of control over certain jurisdictional facilities.

Filed Date: 6/15/2007.

Accession Number: 20070619-0199.

Comment Date: 5 p.m. Eastern Time on Friday, July 6, 2007.

Docket Numbers: EC07-108-000.

Applicants: Acadia Power Partners, LLC; Calpine Acadia Holdings, LLC; Acadia Power Holdings, LLC.

Description: Joint application for approval of Acadia Power Partners, LLC, Calpine Acadia Holdings, LLC and Acadia Power Holdings, LLC on the indirect transfer of its existing interest.

Filed Date: 6/15/2007.

Accession Number: 20070619-0198.

Comment Date: 5 p.m. Eastern Time on Friday, July 6, 2007.

Take notice that the Commission received the following exempt wholesale generator filings:

Docket Numbers: EG07-58-000.

Applicants: Forward Energy LLC.

Description: Forward Energy LLC submits a Notice of Self-Certification of Exempt Wholesale Generator Status pursuant to Sections 3.66.1 and 366.7(a) of the Commission's Regulations.

Filed Date: 6/12/2007.

Accession Number: 20070614-0108.

Comment Date: 5 p.m. Eastern Time on Tuesday, July 03, 2007.

Docket Numbers: EG07-59-000.

Applicants: Kleen Energy Systems, LLC.

Description: Kleen Energy Systems, LLC as the Owner of the Kleen Energy Generating Facility submits a notice of Self-Certification of Exempt Wholesale Generator Status.

Filed Date: 6/15/2007.

Accession Number: 20070615-5015.

Comment Date: 5 p.m. Eastern Time on Friday, July 6, 2007.

Docket Numbers: EG07-60-000.

Applicants: Hopewell Cogeneration Ltd Partnership.

Description: Notice of Self-Certification of Exempt Wholesale Generator Status of Hopewell Cogeneration Limited Partnership.

Filed Date: 6/15/2007.

Accession Number: 20070615-5052.

Comment Date: 5 p.m. Eastern Time on Friday, July 6, 2007.

Take notice that the Commission received the following electric rate filings:

Docket Numbers: ER00-980-015.

Applicants: Bangor Hydro-Electric Company.

Description: Bangor Hydro-Electric Co submits an informational filing showing the implementation of their formula rate for the charges that became effective 6/1/07.

Filed Date: 6/15/2007.

Accession Number: 20070619-0141.

Comment Date: 5 p.m. Eastern Time on Friday, July 6, 2007.

Docket Numbers: ER00-1053-020.

Applicants: Maine Public Service Company.

Description: Maine Public Service Company submits this informational filing setting forth the changed open access transmission tariff charges effective 6/1/07 together with back-up materials etc.

Filed Date: 06/15/2007.

Accession Number: 20070619-0135.

Comment Date: 5 p.m. Eastern Time on Friday, July 6, 2007.

Docket Numbers: ER03-198-008.

Applicants: Pacific Gas & Electric Company.

Description: Pacific Gas & Electric Company (PG&E) submits a notice of change in status due to execution and CPUC approval of a multi-year tolling agreement between Mirant Delta, LLC (Mirant) and PG&E.

Filed Date: 6/14/2007.

Accession Number: 20070614-5029.

Comment Date: 5 p.m. Eastern Time on Thursday, July 5, 2007.

Docket Numbers: ER04-944-003.

Applicants: Reliant Energy Wholesale Generation, LLC.

Description: Reliant Energy Wholesale Generation LLC submits its triennial market power analysis and revisions to its market-based rate tariff to remove sheets codifying FERC's previously effective market behavior rules.

Filed Date: 6/15/2007.

Accession Number: 20070619-0137.

Comment Date: 5 p.m. Eastern Time on Friday, July 6, 2007.

Docket Numbers: ER05-17-008.

Applicants: Trans-Electric NTD Path 15, LLC.

Description: Trans-Elec NTD Path 15, LLC submits revisions to its Transmission Owner Tariff, including the Transmission Revenue Requirement contained in accordance w/FERC's order on initial decision.

Filed Date: 6/12/2007.

Accession Number: 20070614-0092.

Comment Date: 5 p.m. Eastern Time on Tuesday, July 03, 2007.

Docket Numbers: ER06-1088-002.

Applicants: Entergy Services, Inc.

Description: Entergy Services Inc submits its compliance refund report.

Filed Date: 6/14/2007.

Accession Number: 20070618-0127.

Comment Date: 5 p.m. Eastern Time on Thursday, July 5, 2007.

Docket Numbers: ER06-1552-003.

Applicants: Midwest Independent Transmission System Operator, Inc.

Description: Midwest Independent Transmission System Operator Inc submits its proposed revisions to its Open Access Transmission and Energy Markets Tariff etc.

Filed Date: 6/18/2007.

Accession Number: 20070619-0160

Comment Date: 5 p.m. Eastern Time on Monday, July 9, 2007.

Docket Numbers: ER07-284-003.

Applicants: San Diego Gas & Electric Company.

Description: San Diego Gas & Electric Company submits its compliance filing.

Filed Date: 6/15/2007.

Accession Number: 20070619-0138.

Comment Date: 5 p.m. Eastern Time on Friday, July 6, 2007.

Docket Numbers: ER07-478-001.

Applicants: Midwest Independent Transmission System Operator, Inc.

Description: Midwest Independent Transmission System Operator Inc submits proposed revisions to its Open Access Transmission and Energy Markets Tariff to comply with specific directives set forth in FERC's 5/17/07 Order.

Filed Date: 6/18/2007.

Accession Number: 20070620-0128.

Comment Date: 5 p.m. Eastern Time on Monday, July 9, 2007.

Docket Numbers: ER07-583-002.

Applicants: Commonwealth Edison Company.

Description: Commonwealth Edison Company of Indiana Inc submits its compliance filing.

Filed Date: 6/15/2007.

Accession Number: 20070619-0136.

Comment Date: 5 p.m. Eastern Time on Friday, July 6, 2007.

Docket Numbers: ER07-1013-000.

Applicants: PJM Interconnection, L.L.C.

Description: PJM Interconnection LLC submits an executed interconnection service agreement among PJM, FirstEnergy Nuclear Operating Company et al and notices of cancellation for an interim interconnection services.

Filed Date: 6/5/2007.

Accession Number: 20070607-0201.

Comment Date: 5 p.m. Eastern Time on Tuesday, June 26, 2007.

Docket Numbers: ER07-1033-000.

Applicants: New York Independent System Operator, Inc.

Description: New York Independent System Operator Inc submits proposed revisions to its Market Administration and Control Area Services Tariff to revised methodology by which the NYISO included start-up costs etc.

Filed Date: 6/13/2007.

Accession Number: 20070615-0300.

Comment Date: 5 p.m. Eastern Time on Thursday, July 5, 2007.

Docket Numbers: ER07-1034-000.

Applicants: California Independent System Operator Corporation

Description: Southern California Edison submits an unexecuted Large Generation Interconnection Agreement with Green Borders Geothermal LLC.

Filed Date: 6/14/2007.

Accession Number: 20070615-0305.

Comment Date: 5 p.m. Eastern Time on Thursday, July 5, 2007.

Docket Numbers: ER07-1035-000.

Applicants: California Independent System Operator Corporation.

Description: California Independent System Operator Corporation submits a notice regarding the revised transmission Access Charges effective 3/1/07.

Filed Date: 6/14/2007.

Accession Number: 20070618-0124.

Comment Date: 5 p.m. Eastern Time on Thursday, July 5, 2007.

Docket Numbers: ER07-1036-000.

Applicants: PJM Interconnection, LLC.

Description: PJM Interconnection LLC submits revisions to its Credit Policy Attachment Q of its Open Access Transmission Tariff, FERC Electric, Sixth Revised Volume 1.

Filed Date: 6/14/2007.

Accession Number: 20070618-0123.

Comment Date: 5 p.m. Eastern Time on Thursday, July 5, 2007.

Docket Numbers: ER07-1037-000.

Applicants: Duke Energy Indiana, Inc.

Description: Duke Energy Indiana Inc submits a Power Coordination Agreement designated as Rate Schedule 269 with Indiana Municipal Power Agency dated 4/26/07.

Filed Date: 6/14/2007.

Accession Number: 20070618-0122.

Comment Date: 5 p.m. Eastern Time on Thursday, July 5, 2007.

Docket Numbers: ER07-1038-000.

Applicants: California Independent System Operator Corporation.

Description: California Independent System Operator Corporation submits an amendment to the ISO Tariff 2007 Reference Price Amendment.

Filed Date: 6/14/2007.

Accession Number: 20070618-0125.

Comment Date: 5 p.m. Eastern Time on Thursday, July 5, 2007.

Docket Numbers: ER07-1039-000.

Applicants: Central Maine Power.

Description: Central Maine Power Company submits an executed Form of Local Service agreement for point-to-point service and executed Service Agreement for Local Network Transmission Service.

Filed Date: 6/15/2007.

Accession Number: 20070618-0126.

Comment Date: 5 p.m. Eastern Time on Friday, July 6, 2007.

Docket Numbers: ER07-1041-000.

Applicants: Avista Corporation.

Description: Avista Corporation submits Second Revised Sheet 6 et al to its FERC Rate Schedule 323.

Filed Date: 6/18/2007.

Accession Number: 20070619-0157.

Comment Date: 5 p.m. Eastern Time on Monday, July 9, 2007.

Docket Numbers: ER07-1042-000.

Applicants: Southern California Edison Company.

Description: Southern California Edison Company submits revised rate sheets to the Interconnection Facilities Agreement with Gas Recovery Systems Inc, Service Agreement 118 etc.

Filed Date: 6/18/2007.

Accession Number: 20070619-0158.

Comment Date: 5 p.m. Eastern Time on Monday, July 9, 2007.

Docket Numbers: ER07-1043-000.

Applicants: Southern California Edison Company.

Description: Southern California Edison Company submits a Small Generator Interconnection Agreement and a Service Agreement for Wholesale Distribution Service with Cambrian Energy Woodville LLC.

Filed Date: 6/18/2007.

Accession Number: 20070619-0159.

Comment Date: 5 p.m. Eastern Time on Monday, July 9, 2007.

Docket Numbers: ER07-1045-000.

Applicants: Kentucky Utilities Company.

Description: E.ON US, LLC submits a Letter Agreement between Kentucky Utilities Co and twelve existing KU wholesale municipal customers which receive power from the Southeastern Power Administration.

Filed Date: 6/15/2007.

Accession Number: 20070619-0134.

Comment Date: 5 p.m. Eastern Time on Friday, July 6, 2007.

Docket Numbers: ER07-1046-000.

Applicants: Dresden Energy, LLC.

Description: Dresden Energy, LLC submits a Notice of Cancellation of a revised tariff sheet to terminate its market-based rate tariff, designated as FERC Electric Tariff, Original Volume 1.

Filed Date: 6/18/2007.

Accession Number: 20070619-0143.

Comment Date: 5 p.m. Eastern Time on Monday, July 9, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E7-12468 Filed 6-27-07; 8:45 am]

BILLING CODE 6717-01-P